DEPARTMENT OF COMMERCE

International Trade Administration

[C-555-004, C-557-831, C-549-852, C-552-842]

Crystalline Silicon Photovoltaic Cells, Whether or Not Assembled Into Modules, From Cambodia, Malaysia, Thailand, and the Socialist Republic of Vietnam: Postponement of Preliminary Determinations in the Countervailing Duty Investigations

AGENCY: Enforcement and Compliance, International Trade Administration, Department of Commerce.

DATES: Applicable July 3, 2024.

FOR FURTHER INFORMATION CONTACT: Dusten Hom or Garry Kasparov (Cambodia), Preston Cox or Scarlet Jaldin (Malaysia), Shane Subler or Henry Wolfe (Thailand), and Frank Schmitt (the Socialist Republic of Vietnam (Vietnam)), AD/CVD Operations, Offices I, VI, and VIII, Enforcement and Compliance, International Trade Administration, U.S. Department of Commerce, 1401 Constitution Avenue NW, Washington, DC 20230; telephone: (202) 482-5075, (202) 482-1397, (202) 482-5041, (202) 482-4275, (202) 482-6241, (202) 482-0574, and (202) 482-4880, respectively.

SUPPLEMENTARY INFORMATION:

Background

On May 14, 2024, the U.S. Department of Commerce (Commerce) initiated countervailing duty (CVD) investigations of imports of crystalline silicon photovoltaic cells, whether or not assembled into modules (solar cells), from Cambodia, Malaysia, Thailand, and Vietnam.¹ Currently, the preliminary determinations are due no later than July 18, 2024.

¹ See Crystalline Silicon Photovoltaic Cells, Whether or Not Assembled Into Modules, from Cambodia, Malaysia, Thailand, and the Socialist Republic of Vietnam: Initiation of Countervailing Duty Investigations, 89 FR 43816 (May 20, 2024).

Postponement of Preliminary Determinations

Section 703(b)(1) of the Tariff Act of 1930, as amended (the Act), requires Commerce to issue the preliminary determination in a CVD investigation within 65 days after the date on which Commerce initiated the investigation. However, section 703(c)(1) of the Act permits Commerce to postpone the preliminary determination until no later than 130 days after the date on which Commerce initiated the investigation if: (A) the petitioner ² makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

² The petitioner is the American Alliance for Solar Manufacturing Trade Committee.

On June 18, 2024, the petitioner submitted timely requests that Commerce postpone the preliminary CVD determinations.³ The petitioner stated that it requests postponement for Commerce to receive and analyze initial responses, to allow petitioner's counsel and other interested parties to analyze responses, and for Commerce to issue supplemental questionnaires and receive responses prior to making its preliminary CVD determinations.⁴

³ See Petitioner's Letters, “Crystalline Silicon Photovoltaic Cells, Whether or Not Assembled into Modules from Cambodia: Request to Postpone Preliminary Determination,” “Crystalline Silicon Photovoltaic Cells, Whether or Not Assembled into Modules from Malaysia: Request to Postpone Preliminary Determination,” “Crystalline Silicon Photovoltaic Cells, Whether or Not Assembled into Modules from Thailand: Request to Postpone Preliminary Determination,” and “Crystalline Silicon Photovoltaic Cells, Whether or Not Assembled into Modules from the Socialist Republic of Vietnam: Request to Postpone Preliminary Determination,” all dated June 18, 2024.

⁴ Id.

In accordance with 19 CFR 351.205(e), the petitioner has stated the reasons for requesting a postponement of the preliminary determinations, and Commerce finds no compelling reason to deny the requests. Therefore, in accordance with section 703(c)(1)(A) of the Act, Commerce is postponing the deadline for the preliminary determinations to no later than 130 days after the date on which these investigations were initiated, i.e., September 23, 2024.⁵ Pursuant to section 705(a)(1) of the Act and 19 CFR 351.210(b)(1), the deadline for the final determinations of these investigations will continue to be 75 days after the date of the preliminary determinations.

⁵ Postponing the preliminary determinations to 130 days after the date of initiation would place the deadlines on Saturday, September 21, 2024. Commerce's practice dictates that where a deadline falls on a weekend or federal holiday, the appropriate deadline is the next business day. See Notice of Clarification: Application of “Next Business Day” Rule for Administrative Determination Deadlines Pursuant to the Tariff Act of 1930, As Amended, 70 FR 24533 (May 10, 2005).

Notification to Interested Parties

This notice is issued and published pursuant to section 703(c)(2) of the Act and 19 CFR 351.205(f)(1).

Dated: June 27, 2024.
Ryan Majerus,
Deputy Assistant Secretary for Policy and Negotiations, performing the non-exclusive functions and duties of the Assistant Secretary for Enforcement and Compliance.

[FR Doc. 2024-14614 Filed 7-2-24; 8:45 am]

BILLING CODE 3510-DS-P